DEPARTMENT OF THE INTERIOR

National Park Service

Notice of Inventory Completion: Springfield Science Museum, Springfield, MA

AGENCY: National Park Service, Interior.

ACTION: Notice.

Notice is here given in accordance with the Native American Graves Protection and Repatriation Act (NAGPRA), 25 U.S.C. 3003, of the completion of an inventory of human remains in the possession of the Springfield Science Museum, Springfield, MA. The human remains were removed from an unknown site in North McGregor, Clayton County, IA.

This notice is published as part of the National Park Service’s administrative responsibilities under NAGPRA, 25 U.S.C. 3003 (d)(3). The determinations within this notice are the sole responsibility of the museum, institution, or Federal agency that has control of the Native American human remains. The National Park Service is not responsible for the determinations within this notice.

A detailed assessment of the human remains was made by Springfield Science Museum professional staff in consultation with representatives of the Flandreau Santee Sioux Tribe of South Dakota; Ho-Chunk Nation of Wisconsin; Iowa Tribe of Kansas and Nebraska; Iowa Tribe of Oklahoma; Lower Sioux Indian Community in the State of Minnesota; Prairie Island Indian Community in the State of Minnesota; Sac & Fox Nation of Missouri in Kansas and Nebraska; Sac & Fox Nation, Oklahoma; Sac & Fox Tribe of the Mississippi in Iowa; Santee Sioux Tribe of the Santee Reservation of Nebraska; Spirit Lake Tribe, North Dakota; Upper Sioux Community, Minnesota; Winnebago Tribe of Nebraska; and Yankton Sioux Tribe of South Dakota.

In 1860, a human cranium representing one individual was removed from an unknown site in North McGregor, IA, near the Mississippi River by Mr. H. Davis. In 1862, Mr. Davis donated the human remains to the Springfield Science Museum. No known individual was identified. No associated funerary objects are present. The physical anthropological characteristics indicate that the individual is Native American.

Based on the geographical location of North McGregor, IA, within the area recognized by the Indian Claims Commission as aboriginal land of the Sac & Fox Nation, the human remains are likely affiliated with the Sac & Fox Nation of Missouri in Kansas and Nebraska; Sac & Fox Nation, Oklahoma; and Sac & Fox Tribe of the Mississippi in Iowa. The land recognized by the Indian Claims Commission is included in the terms of the Treaty of September 21, 1832 (7 Stat., 374) between the Sauk and Fox and the United States, a cession required of the Sauk and Fox as indemnity for the expenses of the Black Hawk War.

Officials of the Springfield Science Museum have determined that, pursuant to 25 U.S.C. 3001 (9-10), the human remains described above represent the physical remains of one individual of Native American ancestry. Officials of the Springfield Science Museum also have determined that, pursuant to 25 U.S.C. 3001 (2), there is a relationship of shared group identity that can reasonably be traced between the Native American human remains and the Sac & Fox Nation of Missouri in Kansas and Nebraska; Sac & Fox Nation, Oklahoma; and Sac & Fox Tribe of the Mississippi in Iowa.

Representatives of any other Indian tribe that believes itself to be culturally affiliated with the human remains should contact David Stier, Director, Springfield Science Museum, 220 State Street, Springfield, MA 01103, telephone (413) 263-6800, extension 321, before August 22, 2003. Repatriation of the human remains to the Sac & Fox Tribe of the Mississippi in Iowa, acting on behalf of the Sac & Fox Nation of Missouri in Kansas and Nebraska and Sac & Fox Nation, Oklahoma may proceed after that date if no additional claimants come forward.

The Springfield Science Museum is responsible for notifying the Flandreau Santee Sioux Tribe of South Dakota; Ho-Chunk Nation of Wisconsin; Iowa Tribe of Kansas and Nebraska; Iowa Tribe of Oklahoma; Lower Sioux Indian Community in the State of Minnesota; Prairie Island Indian Community in the State of Minnesota; Sac & Fox Nation of Missouri in Kansas and Nebraska; Sac & Fox Nation, Oklahoma; Sac & Fox Tribe of the Mississippi in Iowa; Santee Sioux Tribe of the Santee Reservation of Nebraska; Spirit Lake Tribe, North Dakota; Upper Sioux Community, Minnesota; Winnebago Tribe of Nebraska; and Yankton Sioux Tribe of South Dakota that this notice has been published.

Dated: May 28, 2003.
John Robbins,
Assistant Director, Cultural Resources.

[FR Doc. 03-18704 Filed 7-22-03; 8:45 am]

BILLING CODE 4310-70-S